SOCIAL SECURITY ADMINISTRATION

Rescission of Social Security Acquiescence Rulings 93-3(6), 93-4(2) and 93-5(11)

AGENCY: Social Security Administration.

ACTION: Notice of rescission of Social Security Acquiescence Rulings 93-3(6)—Akers v.Secretary of Health and Human Services, 966 F.2d 205 (6th Cir. 1992); 93-4(2)—Condon and Brodner v.Bowen, 853 F.2d 66 (2d Cir. 1988); 93-5(11)—Shoemaker v.Bowen, 853 F.2 858 (11th Cir. 1988)

SUMMARY: In accordance with 20 CFR 404.985(e), 416.1485(e) and 402.35(b)(2), the Commissioner of Social Security gives notice of the rescission of Social Security Acquiescence Rulings 93-3(6), 93-4(2) and 93-5(11).

EFFECTIVE DATE: April 14, 2000.

FOR FURTHER INFORMATION CONTACT: Gary Sargent, Litigation Staff, Social Security Administration, 6401 Security Boulevard, Baltimore, MD 21235, (410) 965-1695.

SUPPLEMENTARY INFORMATION: A Social Security Acquiescence Ruling explains how we will apply a holding in a decision of a United States Court of Appeals that we determine conflicts with our interpretation of a provision of the Social Security Act or regulations when the Government has decided not to seek further review of the case or is unsuccessful on further review.

As provided by 20 CFR 404.985(e)(3) and 416.1485(e)(3), a Social Security Acquiescence Ruling may be rescinded as obsolete if a Federal law is enacted that removes the basis for the holding in a decision of a circuit court that was the subject of an Acquiescence Ruling.

On July 29, 1993, we issued Acquiescence Rulings 93-3(6), 93-4(2) and 93-5(11) to reflect the holdings in Akers v.Secretary of Health and Human Services, 966 F.2d 205 (6th Cir. 1992),Condon and Brodner v.Bowen, 853 F.2d 66 (2d Cir. 1988), andShoemaker v.Bowen, 853 F.2d 858 (11th Cir. 1988), that continued benefits and “interim benefits” paid to claimants pursuant to section 2(e) of the Social Security Disability Benefits Reform Act of 1984 or section 223(g) of the Social Security Act (the Act) are “past-due benefits” for purposes of awarding attorney fees under section 206(b)(1) of the Act.

On August 15, 1994, the Social Security Independence and Program Improvements Act of 1994 ¹ was enacted which specifically provided in its technical and clerical amendments in title III, section 321(f)(3)(B) that the term “past-due benefits” excludes benefits continued under section 223(g) or (h) of the Act. The effective date of this amendment was 180 days later.

¹ Under the Social Security Independence and Program Improvements Act of 1994, Pub. L. No. 103-296, effective March 31, 1995, SSA became an independent Agency in the Executive Branch of the United States Government and was provided ultimate responsibility for administering the Social Security and Supplemental Security Income programs under titles II and XVI of the Act. Prior to March 31, 1995, the Secretary of Health and Human Services had such responsibility.

Because the change in law did not adopt the Akers, Condon and Brodner, and Shoemaker courts' holdings and specifically excluded continued benefits from the definition of “past-due benefits,” we are rescinding Acquiescence Rulings 93-3(6), 93-4(2) and 93-5(11).

(Catalog of Federal Domestic Assistance Program Nos. 96.001 Social Security - Disability Insurance; 96.002 Social Security - Retirement Insurance; 96.004 Social Security - Survivors Insurance; 96.005 Special Benefits for Disabled Coal Miners; 96.006 Supplemental Security Income.)

Dated: March 17, 2000.
Kenneth S. Apfel,
Commissioner of Social Security.

[FR Doc. 00-9323 Filed 4-13-00; 8:45 am]

BILLING CODE 4191-02-F